DEPARTMENT OF ENERGY

10 CFR Part 431

[Docket Number EERE-2010-BT-STD-0027]

RIN 1904-AC28

Energy Conservation Program: Energy Conservation Standards for Commercial and Industrial Electric Motors

Correction

In proposed rule document 2013-28776 appearing on pages 73589-73681 in the issue of Friday, December 6, 2013, make the following corrections:

1. On page 73594, Table I.5 should appear as set forth below:

Table I.5—Proposed Energy Conservation Standards for Integral Brake Electric Motors and Non-Integral Brake Electric Motors (Compliance Starting December 19, 2015)
Motor horsepower/standard kilowatt equivalent | Nominal full load efficiency (%): 4 Pole: Enclosed | Nominal full load efficiency (%): 4 Pole: Open | Nominal full load efficiency (%): 6 Pole: Enclosed | Nominal full load efficiency (%): 6 Pole: Open | Nominal full load efficiency (%): 8 Pole: Enclosed | Nominal full load efficiency (%): 8 Pole: Open
1/.75 | 85.5 | 85.5 | 82.5 | 82.5 | 75.5 | 75.5
1.5/1.1 | 86.5 | 86.5 | 87.5 | 86.5 | 78.5 | 77.0
2/1.5 | 86.5 | 86.5 | 88.5 | 87.5 | 84.0 | 86.5
3/2.2 | 89.5 | 89.5 | 89.5 | 88.5 | 85.5 | 87.5
5/3.7 | 89.5 | 89.5 | 89.5 | 89.5 | 86.5 | 88.5
7.5/5.5 | 91.7 | 91.0 | 91.0 | 90.2 | 86.5 | 89.5
10/7.5 | 91.7 | 91.7 | 91.0 | 91.7 | 89.5 | 90.2
15/11 | 92.4 | 93.0 | 91.7 | 91.7 | 89.5 | 90.2
20/15 | 93.0 | 93.0 | 91.7 | 92.4 | 90.2 | 91.0
25/18.5 | 93.6 | 93.6 | 93.0 | 93.0 | 90.2 | 91.0
30/22 | 93.6 | 94.1 | 93.0 | 93.6 | 91.7 | 91.7

2. On page 73627, Tables IV.10 and IV.11 should appear as follows:

Table IV.10—Efficiency Levels for Equipment Class Group 3
Representative unit | EL 0 (EPACT 1992) (%) | EL 1 (NEMA premium) (%) | EL 2 (Best-in-market*) (%) | EL 3 (Max-tech) (%)
5 hp | 87.5 | 89.5 | 90.2 | 91.0
30 hp | 92.4 | 93.6 | 94.1 | 94.5
75 hp | 94.1 | 95.4 | 95.8 | 96.2

Table IV.11—Efficiency Levels for Equipment Class Group 2
Representative unit | EL 1 (EPACT 1992) (%) | EL 2 (NEMA premium) (%) | EL 3 (Max-tech) (%)
5 hp | 87.5 | 89.5 | 91.0
50 hp | 92.4 | 93.6 | 94.5

3. On page 73634, in Table IV.14, In the second row, in the second column “1.61” Should read “51.61”.

Table IV.14—Product Conversion Costs for Efficiency Levels above NEMA Premium
Representative unit | Per unit adder for 1 band above NEMA premium | Per unit adder for 2 bands above NEMA premium
5 HP, Design B | $11.06 | $17.36
30 HP, Design B | $32.89 | $51.61
75 HP, Design B | $66.18 | $103.86
5 HP, Design C | $10.68 | $16.75
50 HP, Design C | $60.59 | $95.08

§ 431.25 [AMENDED]

4. On page 73679, in § 431.25(d), Table 4 should appear as set forth below:

Table 4—Nominal Full-Load Efficiencies of NEMA Design B General Purpose Electric Motors (Subtype I and II), Except Fire Pump Electric Motors
Motor horsepower/standard kilowatt equivalent | Nominal full-load efficiency: Open motors (number of poles): 8 | Nominal full-load efficiency: Open motors (number of poles): 6 | Nominal full-load efficiency: Open motors (number of poles): 4 | Nominal full-load efficiency: Open motors (number of poles): 2 | Nominal full-load efficiency: Enclosed motors (number of poles): 8 | Nominal full-load efficiency: Enclosed motors (number of poles): 6 | Nominal full-load efficiency: Enclosed motors (number of poles): 4 | Nominal full-load efficiency: Enclosed motors (number of poles): 2
250/186 | 94.5 | 95.4 | 95.4 | 94.5 | 94.5 | 95.0 | 95.0 | 95.4
300/224 |  | 95.4 | 95.4 | 95.0 |  | 95.0 | 95.4 | 95.4
350/261 |  | 95.4 | 95.4 | 95.0 |  | 95.0 | 95.4 | 95.4
400/298 |  |  | 95.4 | 95.4 |  |  | 95.4 | 95.4
450/336 |  |  | 95.8 | 95.8 |  |  | 95.4 | 95.4
500/373 |  |  | 95.8 | 95.8 |  |  | 95.8 | 95.4

[FR Doc. C1-2013-28776 Filed 2-13-14; 8:45 am]

BILLING CODE 1505-01-D